SECURITIES AND EXCHANGE COMMISSION

[Release Nos. 33-9266; 34-65512, File No. 265-27]

Advisory Committee on Small and Emerging Companies

AGENCY: Securities and Exchange Commission.

ACTION: Notice of meeting of SEC Advisory Committee on Small and Emerging Companies.

SUMMARY: The Securities and Exchange Commission Advisory Committee on Small and Emerging Companies is providing notice that it will hold a public meeting on Monday, October 31, 2011 in the Multi-Purpose Room, L-006, at the Commission's headquarters, 100 F Street, NE., Washington, DC 20549. The meeting will begin at 9 a.m. (EDT) and will be open to the public, except for a period of approximately one hour when the Committee will meet in an administrative work session during lunch. The public portions of the meeting will be Web cast on the Commission's Web site at http://www.sec.gov. Persons needing special accommodations to take part because of a disability should notify the contact person listed below. The public is invited to submit written statements to the Committee.

The agenda for the meeting includes opening remarks, introduction of Committee members, discussion of the Committee's agenda and organization, and discussion of capital formation issues relevant to small and emerging companies.

DATES: Written statements should be received on or before October 25, 2011.

ADDRESSES: Written statements may be submitted by any of the following methods:

Electronic Statements

• Use the Commission's Internet submission form (http://www.sec.gov/info/smallbus/acsec.shtml); or

• Send an e-mail message to rule-comments@sec.gov. Please include File Number 265-27 on the subject line; or

Paper Statements

• Send paper statements in triplicate to Elizabeth M. Murphy, Federal Advisory Committee Management Officer, Securities and Exchange Commission, 100 F Street, NE., Washington, DC 20549-9303.

All submissions should refer to File No. 265-27. This file number should be included on the subject line if e-mail is used. To help us process and review your statement more efficiently, please use only one method. The Commission will post all statements on the Advisory Committee's Web site (http://www.sec.gov./info/smallbus/acsec.shtml).

Statements also will be available for Web site viewing and printing in the Commission's Public Reference Room, 100 F Street, NE., Room 1580, Washington, DC 20549, on official business days between the hours of 10 a.m. and 3 p.m. All statements received will be posted without change; we do not edit personal identifying information from submissions. You should submit only information that you wish to make available publicly.

FOR FURTHER INFORMATION CONTACT: Johanna V. Losert, Special Counsel, at (202) 551-3460, Office of Small Business Policy, Division of Corporation Finance, Securities and Exchange Commission, 100 F Street, NE., Washington, DC 20549-3628.

SUPPLEMENTARY INFORMATION: In accordance with Section 10(a) of the Federal Advisory Committee Act, 5 U.S.C.-App. 1, § 10(a), and the regulations thereunder, Meredith B. Cross, Designated Federal Officer of the Committee, has ordered publication of this notice.

Dated: October 7, 2011.
Elizabeth M. Murphy,
Committee Management Officer.

[FR Doc. 2011-26441 Filed 10-12-11; 8:45 am]

BILLING CODE 8011-01-P